ENVIRONMENTAL PROTECTION AGENCY

40 CFR Part 52

[EPA-R01-OAR-2020-0132; FRL-10007-10-Region 1]

Air Plan Approval and Air Quality Designation; Connecticut; Determination of Clean Data for the 2008 8-Hour Ozone Standard for the Greater Connecticut Area

AGENCY: Environmental Protection Agency (EPA).

ACTION: Proposed rule.

SUMMARY: The Environmental Protection Agency (EPA) is proposing to determine that the Greater Connecticut Serious 8-hour ozone nonattainment area has attained the 2008 8-hour National Ambient Air Quality Standard (NAAQS) for ozone, based on certified 2016-2018 ozone data. In addition, quality controlled and quality assured ozone data for 2019 that are available in the EPA Air Quality System, but not yet certified, do not conflict with the conclusion that this area attains the 2008 8-hour ozone NAAQS. If this proposed determination is made final, the requirements for this area to submit an attainment demonstration, a reasonable further progress plan, contingency measures, and other planning State Implementation Plan (SIP) revisions related to attainment of the 2008 8-hour ozone NAAQS shall be suspended for so long as the area continues to attain the ozone NAAQS. This action is being taken under the Clean Air Act.

DATES: Written comments must be received on or before April 27, 2020.

ADDRESSES: Submit your comments, identified by Docket ID No. EPA-R01-OAR-2020-0132 at https://www.regulations.gov, or via email to townsend.elizabeth@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the For Further Information Contact section. For the full EPA public comment policy, information about CBI or multimedia submissions, and general guidance on making effective comments, please visit http://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Elizabeth Townsend, Air Quality Branch, U.S. Environmental Protection Agency, Region 1, 5 Post Office Square—Suite 100, (Mail code 05-2), Boston, MA 02109-3912, tel. (617) 918-1614, email townsend.elizabeth@epa.gov.

SUPPLEMENTARY INFORMATION: Throughout this document whenever “we,” “us,” or “our” is used, we mean EPA.

Table of Contents

I. Background and Purpose

II. Analysis of Air Quality Data

III. Proposed Action

IV. Statutory and Executive Order Reviews

I. Background and Purpose

On March 27, 2008, EPA revised the National Ambient Air Quality Standard (NAAQS) for ozone to establish a new 8-hour standard of 0.075 parts per million (ppm). On May 21, 2012 (77 FR 30087), EPA established initial classifications for designated nonattainment areas under the 2008 8-hour ozone NAAQS and classified Greater Connecticut (an area containing Hartford County, Litchfield County, New London County, Tolland County, and Windham County) as a Marginal nonattainment area. This designation was based on certified air quality monitoring data from calendar years 2008-2010.

On May 4, 2016 (81 FR 26697), EPA published the final notice in the Federal Register stating that Greater Connecticut failed to attain the 2008 8-hour ozone NAAQS by the attainment date of July 20, 2015 and changed the classification for Greater Connecticut to the next higher classification of Moderate under the CAA statutory scheme.

On August 23, 2019 (84 FR 44238), Greater Connecticut was reclassified from a Moderate to Serious ozone nonattainment area. This designation was based on certified 2015-2017 ozone data that showed the Greater Connecticut area failed to attain the 2008 8-hour ozone NAAQS by the attainment date of July 20, 2018. More recent air quality data indicates that the Greater Connecticut area is now attaining the 2008 8-hour ozone standard.

II. Analysis of Air Quality Data

EPA has reviewed the ambient air monitoring data for ozone, consistent with the requirements contained in 40 CFR part 50 and recorded in the EPA Air Quality System (AQS) database for the Greater Connecticut ozone nonattainment area from 2016 through the present time. On the basis of that review, EPA has concluded that this area attained the 2008 8-hour ozone standard at the end of the 2018 ozone season, based on certified 2016-2018 ozone data. In addition, quality controlled and quality assured ozone data for 2019 that are available in AQS, but not yet certified, do not conflict with the conclusion that this area attains the 2008 8-hour ozone NAAQS.

Under EPA regulations, the 2008 8-hour ozone standard is attained when the 3-year average of the annual fourth-highest daily maximum 8-hour average ozone concentrations at an ozone monitor is less than or equal to 0.075 parts per million (ppm) (See 73 FR 16436). This 3-year average is referred to as the design value. When calculating the design value, digits to the right of the third decimal place are truncated (See 73 FR 16436). When the design value is less than or equal to 0.075 ppm at each monitor within the area, then the area is meeting the NAAQS. Also, the data completeness requirement is met when the average percent of days with valid ambient monitoring data is greater than 90%, and no single year has less than 75% data completeness as determined in Appendix I of 40 CFR part 50.

Table 1 shows the fourth-highest maximum 8-hour average ozone concentrations for the Greater Connecticut nonattainment area monitors for the years 2016-2019. Table 2 shows the ozone design values for these same monitors based on the following 3-year periods: 2016-2018 and 2017-2019.

Table 1—Fourth-High 8-Hour Ozone Average Concentrations (parts per million, ppm) in the Greater Connecticut Area
Location | AQS site ID | 2016 | 2017 | 2018 | 2019
Abington | 90159991 | 0.074 | 0.075 | 0.072 | 0.066
Cornwall | 90050005 | 0.078 | 0.067 | 0.071 | 0.062
East Hartford | 90031003 | 0.075 | 0.070 | 0.067 | 0.072
Groton | 90110008 | 0.075 | 0.078 | 0.074 | 0.075
Stafford | 90131001 | 0.072 | 0.07 | 0.071 | 0.073

Table 2—Ozone Design Values (ppm) for the Greater Connecticut Area
Location | AQS site ID | 2016-2018 | 2017-2019 (preliminary)
Abington | 90159991 | 0.071 | 0.071
Cornwall | 90050005 | 0.070 | 0.066
East Hartford | 90031003 | 0.069 | 0.069
Groton | 90110008 | 0.075 | 0.075
Stafford | 90131001 | 0.071 | 0.071

EPA's review of these data indicate that the Greater Connecticut ozone nonattainment area has met and continues to meet the 2008 8-hour ozone NAAQS.

III. Proposed Action

EPA is proposing to determine that the Greater Connecticut Serious 8-hour ozone nonattainment area has attained the 2008 8-hour NAAQS for ozone. This determination is based upon certified ambient air monitoring data that show the area has monitored attainment of the ozone NAAQS based on 2016-2018 data. In addition, quality controlled and quality assured ozone data for 2019 that are available in the EPA AQS database, but not yet certified, do not conflict with the conclusion that this area attains the 2008 8-hour ozone NAAQS. As provided in 40 CFR 51.918, if EPA finalizes this determination, it would suspend the requirements for Connecticut to submit an attainment demonstration, a reasonable further progress plan, and contingency measures under CAA section 172(c)(9), and any other planning State Implementation Plan (SIP) revision related to attainment of the 2008 8-hour ozone NAAQS for this area, for so long as the area continues to attain the standard. EPA is soliciting public comments on the issues discussed in this document or on other relevant matters. These comments will be considered before taking final action. Interested parties may participate in the Federal rulemaking procedure by submitting written comments to this proposed rule by following the instructions listed in the ADDRESSES section of this Federal Register.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Ozone, Reporting and recordkeeping requirements.

Dated: March 19, 2020.
Dennis Deziel,
Regional Administrator, EPA Region 1.

[FR Doc. 2020-06273 Filed 3-26-20; 8:45 am]

BILLING CODE 6560-50-P